DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-046. Applicant: Colorado State University, 200 W. Lake Street, Fort Collins, CO 80523. Instrument: Piezoelectric Scanning Stage, Model NIS-30. Manufacturer: Nanonics Imaging Ltd, Israel. Intended Use: The instrument is intended to be used for research involving deoxyribonucleic acid (DNA) and protein, often fluorescently labeled with rhodamine, and to investigate interactions among DNA, core histone proteins (H1, H2A, H3, H4), and NAP-1 (Nucleosome Assembly Protein 1) and their involvement in the assembly and disassembly of chromatin. Application accepted by Commissioner of Customs: August 28, 2003.

Gerald A. Zerdy,
Program Manager, Statutory Import Programs Staff.

[FR Doc. 03-24898 Filed 9-30-03; 8:45 am]

BILLING CODE 3510-DS-P